DEPARTMENT OF THE TREASURY

Financial Crimes Enforcement Network

RIN 1506-AB54

Agency Information Collection Activities; Proposed Collection; Comment Request; Real Estate Reports

AGENCY: Financial Crimes Enforcement Network (FinCEN), Treasury.

ACTION: Notice and request for comments.

SUMMARY: FinCEN invites all interested parties to comment on the proposed information collection associated with the requirement to report information about certain residential real estate transfers, as required by the Anti-Money Laundering Regulations for Residential Real Estate Transfers final rule published on August 29, 2024. The details included in the information collection are listed below. This request for comment is made pursuant to the Paperwork Reduction Act of 1995.

DATES: Written comments are welcome and must be received on or before January 13, 2025.

ADDRESSES: Comments may be submitted by any of the following methods:

• Federal E-rulemaking Portal: http://www.regulations.gov/. Follow the instructions for submitting comments. Refer to Docket Number FINCEN-2024-0019 and the specific Office of Management and Budget (OMB) control number 1506-0080.

• Mail: Policy Division, Financial Crimes Enforcement Network, P.O. Box 39, Vienna, VA 22183. Refer to Docket Number FINCEN-2024-0019 and OMB control number 1506-0080.

Please submit comments by one method only. Comments will be reviewed consistent with the Paperwork Reduction Act of 1995 (PRA) and applicable OMB regulations and guidance. Comments submitted in response to this notice will become a matter of public record. Therefore, you should submit only information that you wish to make publicly available.

FOR FURTHER INFORMATION CONTACT: FinCEN's Regulatory Support Section at 1-800-767-2825 or electronically at frc@fincen.gov.

SUPPLEMENTARY INFORMATION:

I. Statutory and Regulatory Provisions

The legislative framework generally referred to as the Bank Secrecy Act (BSA) consists of the Currency and Foreign Transactions Reporting Act of 1970, as amended by the Uniting and Strengthening America by Providing Appropriate Tools Required to Intercept and Obstruct Terrorism Act of 2001 (USA PATRIOT Act) ¹ and other legislation, including the Anti-Money Laundering Act of 2020 (AML Act).² The BSA is codified at 12 U.S.C. 1829b, 1951-1960 and 31 U.S.C. 5311-5314, 5316-5336, including notes thereto, with implementing regulations at 31 CFR chapter X.

¹ USA PATRIOT Act, Public Law 107-56, 115 Stat. 272 (2001).

² The AML Act was enacted as Division F, sections 6001-6511, of the William M. (Mac) Thornberry National Defense Authorization Act for Fiscal Year 2021, Public Law 116-283, 134 Stat. 3388.

The BSA authorizes the Secretary of the Treasury (Secretary) to, inter alia, require financial institutions to keep records and file reports that are determined to have a high degree of usefulness in criminal, tax, or regulatory matters, risk assessments or proceedings, or in the conduct of intelligence or counter-intelligence activities to protect against terrorism, and to implement anti-money laundering/countering the financing of terrorism (AML/CFT) programs and compliance procedures.³ The authority of the Secretary to administer the BSA has been delegated to the Director of FinCEN.⁴

³ See 31 U.S.C. 5311.

⁴ Treasury Order 180-01 (Jan. 14, 2020); see also 31 U.S.C. 310(b)(2)(I) (providing that FinCEN Director “[a]dminister the requirements of subchapter II of chapter 53 of this title, chapter 2 of title I of Public Law 91-508, and section 21 of the Federal Deposit Insurance Act, to the extent delegated such authority by the Secretary.”).

Among the financial institutions subject to these requirements are “persons involved in real estate closings and settlements.” ⁵ In particular, section 5318(g) of the BSA authorizes the Secretary to require financial institutions to report, via Suspicious Activity Reports (SARs), any “suspicious transactions relevant to a possible violation of law or regulation.” ⁶ However, the BSA affords the Secretary flexibility in implementing that requirement, and indeed directs the Secretary to consider “the means by or form in which the Secretary shall receive such reporting,” including the relevant “burdens imposed by such means or form of reporting,” “the efficiency of the means or form,” and the “benefits derived by the means or form of reporting.” ⁷ A provision added to the BSA by section 6202 of the Anti-Money Laundering Act of 2020 (AML Act) further directs FinCEN to “establish streamlined . . . processes to, as appropriate, permit the filing of noncomplex categories of reports of suspicious activity.” In assessing whether streamlined filing is appropriate, FinCEN must determine, among other things, that such reports would “reduce burdens imposed on persons required to report[,]” while at the same time “not diminish[ing] the usefulness of the reporting to Federal law enforcement agencies, national security officials, and the intelligence community in combating financial crime, including the financing of terrorism[.]” ⁸

⁵ See 31 U.S.C. 5312(a)(2)(U).

⁶ See 31 U.S.C. 5318(g)(1)(A).

⁷ See 31 U.S.C. 5318(g)(5)(B)(i)-(iii).

⁸ See AML Act, section 6202 (codified at 31 U.S.C. 5318(g)(D)(i)(1)).

On August 29, 2024, FinCEN issued a final rule, “Anti-Money Laundering Regulations for Residential Real Estate Transfers,” hereafter referred to as the Residential Real Estate Rule (RRE Rule).⁹ The RRE Rule requires certain persons involved in real estate closings and settlements (reporting persons) to submit reports to FinCEN and keep records on certain non-financed transfers of residential real property to specified legal entities and trusts on a nationwide basis. The reports are expected to curtail the ability of illicit actors to launder illicit proceeds anonymously through transfers of residential real property, which threatens U.S. economic and national security. More broadly, the reports are expected to assist the U.S. Department of the Treasury (Treasury), law enforcement, and national security agencies in addressing illicit finance vulnerabilities in the U.S. residential real estate sector. The rule describes the circumstances in which a report must be filed, who must file a report, what information must be provided, and when a report is due.

⁹ FinCEN, Final Rule, “Anti-Money Laundering Regulations for Residential Real Estate Transfers,” 89 FR 70258 (Aug. 29, 2024).

II. Paperwork Reduction Act of 1995 ¹⁰

¹⁰ Public Law 104-13, 44 U.S.C. 3506(c)(2)(A).

FinCEN conducted certain supplemental analyses, which are discussed below, to estimate the incremental Paperwork Reduction Act (PRA) burden ¹¹ attributable to the specifics of the proposed information collection associated with the RRE Rule, particularly those relating to the Real Estate Report (RER), including both the proposed data fields of the RER and the mechanism by which a RER would be submitted to FinCEN. Public comments on this analysis, including relevant, readily generalizable data that would improve the accuracy of FinCEN's estimates, are invited.

¹¹ This is intended to include the “time, effort, or financial resources expended to generate, [. . .] or disclose or provide information to” FinCEN as required by the PRA. See Carey and Ortiz, “The Paperwork Reduction Act and Federal Collections of Information: A Brief Overview” (Apr. 17, 2024).

Title: Real Estate Reports.

OMB Control Number: 1506-0080.

Type of Collection: Revision.

Description: The RRE Rule imposes a new reporting and recordkeeping requirement on certain persons involved in real estate closings and settlements, or reporting persons, when they perform certain functions in relation to non-financed transfers of residential real property to a specified legal entity or a trust. The reports are to be filed electronically through an online interface using the same free system that other financial institutions required to file BSA reports use for purposes other than in connection with real estate transactions.¹² For some reporting persons, this system will already be familiar and ready for use as it is also the same filing system for submitting reports under geographic targeting orders relating to non-financed transfers of residential real estate (Residential Real Estate GTOs). Reporting persons who do not already use FinCEN's BSA E-filing system will first need to enroll. The enrollment process for FinCEN's BSA E-Filing System entails identifying the reporting person and assigning a designated Supervisory User.¹³ The Supervisory User is an individual who will facilitate the process of creating general user accounts for the reporting person's other employees, if any, that may file RERs; the Supervisory User has access to system functionality not available to regular users, such as ability to update filing organization information and track the status of filings submitted by all users from across the organization. To file RERs through FinCEN's BSA E-Filing System, individual users will be required to create a login.gov account (if they have not already done so for other purposes).¹⁴ Once the enrollment process has been completed, the BSA E-Filing System will provide three different filing options for RERs. Filers will file individual reports either through an online form or as a PDF form, or filers may file multiple reports through a user-developed automated interface.

¹² Other BSA reports include, for example, Suspicious Activity Reports (SARs) and Reports of Foreign Bank and Financial Accounts (FBARs). See FinCEN, BSA E-Filing System, “Supported Forms”, available at https://bsaefiling.fincen.treas.gov/SupportedForms.html.

¹³ If the enrolling party intends to be the sole user of the access being set up, there is no distinction between the person named as Supervisory User and the general user, and there would be only one account.

¹⁴ Login.gov is available at https://www.login.gov/. To create a Login.gov account, users will be required to provide an email address and a form of identification. BSA E-filing is available at https://bsaefiling.fincen.treas.gov.

The proposed RER contains 111 distinct fields, of which, FinCEN expects approximately 60 percent must be completed to report a given transfer per the requirements specified in the RRE rule.¹⁵ The form may require as few as approximately 40 fields to be completed, and FinCEN anticipates that significantly more fields may be required for certain highly complex reportable transfers, such as those with multiple beneficial owners or multiple sources of funds that would require the same fields to be populated for each owner or source of funds.

¹⁵ Because the requirement for certain fields to be populated is unique to the facts and circumstances of a given transfer, not all 111 original fields are relevant to each potential reportable transfer. However, due to the possibility that in some transfers, a single individual may perform more than one role, some fields might need to be completed more than once for the same individual, causing the number of fields completed in practice to exceed the percent of fields required to be completed for a given RER.

The effective date of the RRE Rule is December 1, 2025. As set forth in the rule, the RER must contain information about the person filing the report (the “reporting person”), the legal entity (the “transferee entity”) or trust (the “transferee trust”) receiving ownership of the property, the beneficial owners of the transferee entity or transferee trust, certain individuals signing documents on behalf of the transferee entity or transferee trust, the transferor (e.g., the seller), the property being transferred, and any payments made.¹⁶ The reporting person may reasonably rely on information obtained from others, absent knowledge of facts that would reasonably call into question the reliability of that information. For purposes of reporting beneficial ownership information in particular, a reporting person may reasonably rely on information obtained from a transferee or the transferee's representative if the accuracy of the information is certified in writing to the best of the information provider's own knowledge. The collected information will be maintained by FinCEN and made accessible to authorized users.

¹⁶ See FinCEN, Final Rule, “Anti-Money Laundering Regulations for Residential Real Estate Transfers,” 89 FR 70258 (Aug. 29, 2024). See also Appendix.

Report: Real Estate Report.

Affected Public: Residential Real Estate Settlement Agents, Title Insurance Carriers, Escrow Service Providers, Attorneys and Offices of Attorneys, and Other Real Estate Professionals.

A. Respondent-Based Incremental Reporting Burdens

Estimated Number of Respondents: One per reportable transaction.

As explained in the RRE Rule, the reporting person for any transfer is one of a number of persons who perform specified roles in a given real estate closing and settlement, with the specific reporting person determined through a cascading approach, unless superseded by a designation agreement among persons in the reporting cascade.¹⁷ The reporting cascade is ordered by function performed or service provided, rather than by the defined primary occupations (i.e., job titles such as real estate agent) or categories of service providers (e.g., real estate lawyers), because the role of the reporting person provides more clarity about their placement in the reporting cascade rather than a job title or occupational category or similar attribute originally intended for census purposes.

¹⁷ The reporting cascade consists of a list of seven different functions that a real estate professional may perform in a transfer of residential real property, with the reporting obligation for any such transfer applying to the professional that performed a function that appears highest on the list. For example, the first function on the list is the professional listed as the agent on the closing or settlement statement. If no such professional is involved in the transfer, then the reporting obligation applies to any professional that performed the second function on the list (i.e., the professional that prepared the closing or settlement statement), and so on down the list. See FinCEN, Final Rule, “Anti-Money Laundering Regulations for Residential Real Estate Transfers,” 89 FR 70258, 70290-70291 (Aug. 29, 2024).

To estimate the total number of respondents in the RRE Rule, FinCEN grouped potential reporting persons by features of their primary occupation and treated them as functionally distinct members of the cascade.¹⁸ In the final rule, FinCEN estimated that there may be up to approximately 172,753 reporting persons and 642,508 employees of those persons.¹⁹ While FinCEN continues to treat these estimates as an expected upper bound on the number of persons who could incur the reporting burden estimated in this notice, it is likely that the number of reporting persons and affected employees that would in practice incur the full incremental burden estimated in this notice would be much lower. In its experience with the more limited Residential Real Estate GTOs, FinCEN data suggests that most reporting has been performed by a concentrated subset of the total population of potential reporting entities and that few identifiably unique individual employees per reporting person are associated with the reports filed.²⁰ For example, from the date of the first effective Residential Real Estate GTOs in March 2016 through the end of August 2024, FinCEN estimates that approximately 64 percent of all reports filed ²¹ were submitted by the five largest title companies ²² and an additional 8 percent, approximately, were filed by the remaining 15 of the 20 largest title companies.²³ The residual share of total reports filed were submitted by either smaller title companies or law offices, with an average filing volume of 16 GTO reports filed per remaining filer and an average of one identifiably distinct employee filer per reporting year per reporting entity. Consequently, a number of the incremental burden estimates presented below have been calculated over a smaller subpopulation of the total number of respondents as estimated in the RRE Rule.

¹⁸ Analysis of Residential Real Estate GTO filings to date illustrates certain potential limitations of this approach because it demonstrates that covered businesses under the GTO requirements (which are limited to title insurance agents), may function in a role other than their self-identified primary occupation. To illustrate, FinCEN notes that of the approximately 2,400 identifiably unique filers who submitted at least one Residential Real Estate GTO report through August 2024, approximately 38.4 percent self-identified as either primarily employed as an attorney or the employee of a law office.

¹⁹ See FinCEN, Final Rule, “Anti-Money Laundering Regulations for Residential Real Estate Transfers,” 89 FR 70258, 70283 (Aug. 29, 2024).

²⁰ See 31 U.S.C. 5326; 31 CFR 1010.370; Treasury Order 180-01 (Jan. 14, 2020), available at https://home.treasury.gov/about/general-information/orders-and-directives/treasury-order-180-01. In general, a GTO is an order administered by FinCEN which, for a finite period of time, imposes additional recordkeeping or reporting requirements on domestic financial institutions or other businesses in a given geographic area, based on a finding that the additional requirements are necessary to carry out the purposes of, or to prevent evasion of, the BSA. The statutory maximum duration of a GTO is 180 days unless further renewed. Since 2016, the Residential Real Estate GTOs have required certain title insurance companies to file reports and maintain records concerning non-financed purchases of residential real estate above a specific price threshold by certain legal entities in select metropolitan areas of the United States.

²¹ This includes both reports filed on Form 8300, which were originally required for reports filed by the Residential Real Estate GTOss, and on a Currency Transaction Report (CTR), which has been the required form for the GTOs since April 13, 2018. FinCEN has included GTO reports incorrectly filed using Form 8300 after April 13, 2018, in its analysis because they conceptually represent reporting activity undertaken regarding real estate transfers of interest.

²² As measured by market share at the end of calendar year 2022.

²³ Id.

Estimated Burden per Respondent: 50 minutes.²⁴

²⁴ FinCEN bases this estimate on an expected average training time cost of 30 minutes for one natural person per year and a one-time technology time cost of 1 hour, or 20 minutes per year for three years. FinCEN intends to request comment on filers' realized technology costs and is prepared to further refine this estimate upon renewal of the OMB control number.

FinCEN continues to acknowledge that some costs related to the proposed information collection may be independent of a potential respondent ever submitting an RER. These may be expected to include certain training and reporting mechanism-specific technology costs.

Training Costs

As in the regulatory impact analyses (RIAs) in both the February 2024 notice of proposed rulemaking (RRE NPRM) and the RRE Rule, FinCEN continues to expect that all potential reporting persons and at least some proportion of their respective employees, as a proper superset of all actual reporting persons, are likely to engage in some measure of preparatory training in advance of any instance in which a non-designatable reporting requirement is realized.²⁵ Unlike the RRE NPRM and RRE Rule however, FinCEN has considered it appropriate to include an incremental estimate of training costs as part of the PRA burden in this 60-day Notice. This is because training in how to complete and submit the RER itself represents an expenditure of resources without which it would not be possible to “disclose or provide information to” ²⁶ FinCEN because the RER filing will be the only mechanism by which a reporting person may inform FinCEN of a reportable transfer.

²⁵ See FinCEN, NPRM, “Anti-Money Laundering Regulations for Residential Real Estate Transfers,” 89 FR 12424 (Feb. 16, 2024), and FinCEN, Final Rule, “Anti-Money Laundering Regulations for Residential Real Estate Transfers,” 89 FR 70258 (Aug. 29, 2024).

²⁶ See supra note 11.

The training burden contemplated in this notice is therefore intended to include an estimate of only the average expected reporting person's necessary training specific to the completion of the RER in the format proposed, using the submission process anticipated to be adopted by such persons and their employees. It is intended to capture aspects of training distinct from, and complementary to, the broader training necessary to ensure adequate familiarity with the RRE Rule generally and a reporting person's compliance policies and procedures specifically.²⁷

²⁷ As discussed in Section VI.A.4.a.i. of the RRE Rule, where the training burden was intended to capture “the costs of preparing informational material and training personnel about the proposed rule generally as well as certain firm-specific policies and procedures related to reporting, complying, and documenting compliance.”

In two rounds of FinCEN's internal tests of user experience with the RER, participants with self-reported prior familiarity with the RRE Rule ranging from none to moderate were provided with 10 to 20 minutes of training and instruction on how to complete a RER before being provided with sample scenarios of varying complexity, which were then used to populate a simulated version of the report. Participants' responses to a post-exercise survey reported that, conditional on adequate familiarity with the rule, 78.9 percent found the training time they were provided to be adequate, while 21.1 percent signaled that more training time would be needed, expressing a belief that a mean training time including 22 additional minutes would be necessary. Participants who reported that more training time than they received would be helpful did not perform meaningfully differently from participants who reported a belief that the training time they received was adequate. While participants who recommended longer training scored an average of 3.2 percentage points lower than other participants, this difference could not be determined to be statistically significant.

FinCEN took into consideration the results of its internal testing as well as certain comments received in response to the RRE NPRM that FinCEN's estimates of training time needs were insufficient.²⁸ FinCEN continues to believe that these comments may have intended to include both form-specific and form-independent training and that its expectation that an average of 30 minutes per trained employee is necessary for report-specific training is consistent with both the results of its testing and public comments received.

²⁸ One commenter suggested FinCEN estimates should be increased by 45 minutes, another by 75 minutes, and a third suggested the training burden should be estimated at one hour per report filed (or 850,000 hours annually).

Technology Costs

FinCEN recognizes that potential reporting persons may need or opt to incur certain technology related expenditures to facilitate their filing activity, and that these costs may vary by the format and filing mechanism choices of the individual business. As in the RRE NPRM and the RRE Rule, FinCEN continues to anticipate that most reporting persons will make use of the online form and PDF form options. FinCEN is continuing to not assign an incremental cost for use of technology that is already incorporated into the ordinary business operations of potential respondents. However, FinCEN is assigning a non-recurring time cost of one hour per respondent associated with setting up access and accounts in the BSA E-Filing System.²⁹

²⁹ For entities that have already set up access in the course of Residential Real Estate GTO reporting compliance, this burden can be alternatively interpreted as a 20 minute per year burden, over three years, associated with maintaining accounts. In FinCEN's review of Residential Real Estate GTO filings, it appears that while certain filers have submitted reports in each of the past nine years, the individual user(s) submitting the filing does not remain the same for more than one or two years at a time.

FinCEN is not including additional cost estimates at this time associated with adopting new technologies that would facilitate batch-filing because while Residential Real Estate GTO filers have had the option to file reports in batch format since 2018,³⁰ FinCEN has not yet received any reportable real estate transaction filings in batch format.³¹ FinCEN acknowledges that this may underestimate costs which, because of the difference in scale and scope of the reporting requirements under the RRE Rule from those under the Residential Real Estate GTOs, certain reporting persons may now find it more cost effective to invest in technological updates that would facilitate batch filing. To the extent that this may be the case, FinCEN is soliciting public comment, including information on the expected per business costs and the anticipated benefits of these technological investments.

³⁰ While it has been possible to batch file CTRs since May 18, 2017 (see FinCEN Currency Transaction Report (CTR) Electronic Filing Requirements (treas.gov)), Residential Real Estate GTOs originally required reports to be submitted using Form 8300 (see note 20), which did not have a batch-filing option until March 2019 (see XMLUserGuide_FinCEN8300.pdf (treas.gov)). This analysis therefore treats 2018 as the earliest year in which Residential Real Estate GTO filers would have been able to submit batch filings.

³¹ Data analyzed covers the period January 1, 2016, through August 31, 2024, and includes both Form 8300 and CTR GTO filings.

B. Response-Based Incremental Reporting Burdens

Estimated Number of Responses: 850,000 per year.³²

³² See FinCEN, Final Rule, “Anti-Money Laundering Regulations for Residential Real Estate Transfers,” 89 FR 70258, 70277 (Aug. 29, 2024).

As described in the RRE Rule, because the specific conditions under which a person in the reporting cascade becomes the reporting person for a reportable transfer and would consequently file the RER may depend on factors unique to the specific reportable transaction, FinCEN considers it more appropriate to assign the remainder of the estimated incremental burden associated with the proposed information collection on a per response basis rather than on a per respondent basis.

Frequency of Response: Once per reportable transfer.³³

³³ While FinCEN anticipates that some reported transfers may subsequently require amendment or revision, it is not inclined to speculate at this time on the potential future rate of refiling. Additionally, because FinCEN is revising its estimated time burden associated with RER completion in this notice to account for time reporting persons may need to review and revise reports before submission, this should correspond to a reduced need for additional filings per reportable transfer. FinCEN intends to review the inflow of filings to assess the realized volume of amendment filings and is prepared to further refine this estimate upon renewal of the OMB control-number.

Estimated Incremental Time per Response: 15 minutes, or 0.25 hours.

In the RRE NPRM and the RRE Rule, FinCEN estimated that the reporting person would need an average of 2 hours per reportable transfer to collect and review transferee and transfer-specific reportable information and related documents, and an average of 30 minutes in additional time to complete and submit a RER. In providing this notice in connection with the proposed RER, FinCEN considered whether any elements of the specific format of the proposed RER and the proposed available variations in format and filing mechanisms might reasonably be expected to increase the previously estimated reporting burden. Similarly, FinCEN conducted internal testing that simulated the use of the proposed report to assess whether time in excess of the originally budgeted 30 minutes to file a report might be systematically necessary to represent the expected average completion and review needed to submit a RER.

Based on its two rounds of internal testing, FinCEN observed that the originally budgeted 30 minutes was generally sufficient insofar as the participants' self-reported time used to complete a RER for a transfer of low-complexity ³⁴ was approximately 27 minutes on average. However, the average error rate in low-complexity responses was approximately 10 percent. Additionally, the average self-reported time needed to complete a high-complexity RER was 9 minutes longer than for a low-complexity RER and the average error rate was approximately 6 percentage points higher. While there are certain limitations to the generalizability of FinCEN's internal testing, the results suggest that to incorporate sufficient time for reporting persons to review completed RERs for accuracy before submission and to account for the additional fields that must be completed and reviewed for transfers of higher complexity, the originally budgeted 30 minutes may be insufficient. FinCEN is revising its estimated time upward by 15 minutes, on average, per response to account for the time needed for variation in transfer complexity and the review of completed RERs.

³⁴ In FinCEN's internal testing, complexity represents the number of informational units that the study-participant would be required to report in the fields of the simulated RER.

C. Total Incremental Reporting Burden Estimates

Estimated Total Incremental Reporting Burden Hours: 356,461 hours.³⁵

³⁵ This estimate includes an expected respondent-based incremental burden of 0.83 hours per potential reporting person (172,753) and a response-based incremental burden of 0.25 hours per response (850,000). The total is rounded to the nearest whole hour.

Estimated Reporting Burden Hours in the RRE Rule: In the RRE Rule, FinCEN estimated that up to a maximum number of four non-reporting persons could be expected to incur a 15-minute reporting burden and that the reporting person who files a Real Estate Report that is also a party to a designation agreement would incur a three-hour reporting burden. In total, FinCEN estimated a PRA reporting and recordkeeping burden of 4,604,167 hours annually.

Revised Estimate of Total Burden Hours: The supplemental burden hour estimated in this notice is 50 minutes per potential respondent and 15 minutes per response per year, or approximately 356,461 hours in total, which would increase the total PRA burden associated with Anti-Money Laundering Regulations for Residential Real Estate Transfers under OMB control number 1506-0080 by approximately 7.7 percent from 4,604,167 to 4,960,628 hours.

Estimated Total Incremental Reporting Cost: $45,324,233.33.³⁶

³⁶ This estimate includes an expected respondent-based incremental burden of $12,709,733.33 and a response-based incremental burden of $32,614,500.00 (using the same conservative assumptions as in the RRE Rule PRA).

Estimated Reporting Cost in the RRE Rule: Based on the range of expected reportable transfers and the wages associated with different persons in the potential reporting cascade in the RRE Rule, FinCEN anticipated that the rule's reporting costs may be between approximately $174.6 million and $466.5 million. In total, FinCEN estimated a PRA reporting and recordkeeping burden of up to approximately $630,976,662.47.

Revised Estimate of Total Burden Cost: The supplemental reporting cost estimated in this notice is $45,324,233.33, which would increase the total PRA burden associated with Anti-Money Laundering Regulations for Residential Real Estate Transfers under OMB control number 1506-0080 by approximately 7.2 percent from $630,976,662.47 to $676,300,895.80.

Request for Comments

An agency may not conduct or sponsor, and a person is not required to respond to, a collection of information unless it displays a valid OMB control number. Comments submitted in response to this notice will be summarized and included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

(Authority: 44 U.S.C. 3501 et seq.)

Andrea M. Gacki,
Director, Financial Crimes Enforcement Network.

Appendix—Real Estate Report Summary of Data Fields

BILLING CODE 4810-02-P

[FR Doc. 2024-26262 Filed 11-12-24; 8:45 am]

BILLING CODE 4810-02-C